ENVIRONMENTAL PROTECTION AGENCY

[EPA-HQ-OPP-2009-0356; FRL-8420-2]

Petition Requesting Cancellation of all Tetrachlorvinphos Pet Uses and Extension of Comment Period for Petition Requesting Cancellation of Propoxur Pet Collar Uses; Notice of Availability

AGENCY: Environmental Protection Agency (EPA).

ACTION: Notice.

SUMMARY: On April 24, 2009, the Agency received a petition from the Natural Resources Defense Council (NRDC) to cancel all pet uses for the pesticide tetrachlorvinphos (TCVP) and a supplement to a previous NRDC petition to cancel all pet collar uses for the pesticide propoxur. NRDC requested these cancellations based on their belief that EPA failed to adequately assess residential exposures to TCVP and propoxur pet collars. NRDC believes that EPA used incorrect exposure assumptions leading to underestimation of residential risk in the TCVP Reregistration Eligibility Decision (RED), Propoxur RED, and N-methyl Carbamate (NMC) Cumulative Risk Assessment (CRA). On April 8, 2009, the Agency opened a 60-day public comment period for the petition to cancel propoxur pet collar uses, originally scheduled to close June 8, 2009. This notice extends the comment period on the propoxur petition to correspond with the timing of the TCVP comment period.

DATES: Comments must be received on or before August 4, 2009.

ADDRESSES: Submit your comments for TCVP, identified by docket identification (ID) number EPA-HQ-OPP-2009-0308, and for propoxur, identified by docket ID number EPA-HQ-OPP-2009-0207, by one of the following methods:

• Federal eRulemaking Portal: http://www.regulations.gov. Follow the on-line instructions for submitting comments.

• Mail: Office of Pesticide Programs (OPP) Regulatory Public Docket (7502P), Environmental Protection Agency, 1200 Pennsylvania Ave., NW., Washington, DC 20460-0001.

• Delivery: OPP Regulatory Public Docket (7502P), Environmental Protection Agency, Rm. S-4400, One Potomac Yard (South Bldg.), 2777 S. Crystal Dr., Arlington, VA. Deliveries are only accepted during the Docket Facility's normal hours of operation (8:30 a.m. to 4 p.m., Monday through Friday, excluding legal holidays). Special arrangements should be made for deliveries of boxed information. The Docket Facility telephone number is (703) 305-5805.

Instructions: Direct your comments to docket ID number EPA-HQ-OPP-2009-0308 for TCVP or to docket ID number EPA-HQ-OPP-2009-0207 for propoxur. EPA's policy is that all comments received will be included in the docket without change and may be made available on-line at http://www.regulations.gov, including any personal information provided, unless the comment includes information claimed to be Confidential Business Information (CBI) or other information whose disclosure is restricted by statute. Do not submit information that you consider to be CBI or otherwise protected through regulations.gov or e-mail. The regulations.gov website is an “anonymous access” system, which means EPA will not know your identity or contact information unless you provide it in the body of your comment. If you send an e-mail comment directly to EPA without going through regulations.gov, your e-mail address will be automatically captured and included as part of the comment that is placed in the docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the docket index available at http://www.regulations.gov. Although listed in the index, some information is not publicly available, e.g., CBI or other information whose disclosure is restricted by statute. Certain other material, such as copyrighted material, is not placed on the Internet and will be publicly available only in hard copy form. Publicly available docket materials are available either in the electronic docket at http://www.regulations.gov, or, if only available in hard copy, at the OPP Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

FOR FURTHER INFORMATION CONTACT: For TCVP: James Parker, Special Review and Reregistration Division (7508P), Office of Pesticide Programs, Environmental Protection Agency, 1200 Pennsylvania Ave., NW., Washington, DC 20460-0001; telephone number: (703) 306-0469; fax number: (703) 308-7070; e-mail address: parker.james@epa.gov.

For Propoxur: Monica Wait, Special Review and Reregistration Division (7508P), Office of Pesticide Programs, Environmental Protection Agency, 1200 Pennsylvania Ave., NW., Washington, DC 20460-0001; telephone number: (703) 347-8019; fax number: (703) 308-7070; e-mail address: wait.monica@epa.gov.

SUPPLEMENTARY INFORMATION:

I. General Information

A. Does This Action Apply to Me?

This action is directed to the public in general, and may be of interest to a wide range of stakeholders including environmental and human health advocates; the chemical industry; pesticide users; pet owners; and members of the public interested in the sale, distribution, or use of pesticides. Since others also may be interested, the Agency has not attempted to describe all the specific entities that may be affected by this action. If you have any questions regarding the applicability of this action to a particular entity, consult the appropriate person listed under FOR FURTHER INFORMATION CONTACT.

B. What Should I Consider as I Prepare My Comments for EPA?

1. Submitting CBI. Do not submit this information to EPA through regulations.gov or e-mail. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number and other identifying information (subject heading, Federal Register date and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

II. Background

The Agency has opened a 60-day comment period for an NRDC petition requesting the cancellation of all tetrachlorvinphos pet uses. The petition was filed on April 24, 2009, and NRDC claims that the Agency did not include the TCVP pet collar use pattern, which is the worst case exposure scenario, and that the Agency used assumptions which underestimated exposures when conducting the risk assessment in support of the 2002 Tetrachlorvinphos RED.

On April 24, 2009, NRDC also submitted a supplement to their previous petition to cancel all pet collar uses for propoxur, which provided some additional information on the pesticide. The original NRDC petition, submitted November 2007, was recently posted for a 60-day public comment period under docket ID number EPA-HQ-OPP-2009-0207 through a notice of availability published in the Federal Register issue of April 8, 2009 (74 FR 15980)(FRL-8408-4). The public comment period for that docket was previously scheduled to close on June 8, 2009. However, this Federal Register notice will extend the public comment period for that docket to 60-days from the publication of this notice. Note that for propoxur, pet collars are currently the only products registered for use on pets. There are no other types of pet products, such as spot-ons, sprays, or shampoos, registered for use on pets. Therefore, NRDC's petition to cancel applies only to propoxur pet collar uses.

In both the TCVP and propoxur petitions, NRDC claims that residential exposures may be significantly higher than estimated by EPA through common daily activities between children and pets. NRDC also cites specific revised hand-to-mouth exposure scenarios from published studies which they feel should have been included in the TCVP and propoxur exposure assessments.

NRDC conducted a study designed to estimate exposure to TCVP and propoxur from flea collars. A summary of the study was submitted in an issue paper along with the petition to cancel pet uses of TCVP and propoxur. The Agency has requested that NRDC provide additional information regarding the study. The Agency's letter requesting information and NRDC's response will be included in both the TCVP and the propoxur dockets.

EPA's 2002 Interim Tolerance Eligibility and Reregistration Eligibility Decision (RED) documents for tetrachlorvinphos are available on EPA's pesticide webpage at http://www.epa.gov/pesticides/reregistration/status.htm.

EPA's 1997 Reregistration Eligibility Decision (RED) for propoxur is available on EPA's pesticide webpage at http://www.epa.gov/pesticides/reregistration/status.htm.

The 2007 NMC CRA, related documents and comments are available in the electronic docket at http://www.regulations.gov under docket ID number EPA-HQ-OPP-2007-0935.

List of Subjects

Environmental protection, Natural Resources Defense Council, Pesticides and pests, Propoxur, Tetrachlorvinphos.

Dated: May 29, 2009.
Richard P. Keigwin, Jr.,
Director, Special Review and Reregistration Division, Office of Pesticide Program.

[FR Doc. E9-13160 Filed 6-4-09; 8:45 am]

BILLING CODE 6560-50-S